DEPARTMENT OF AGRICULTURE

Forest Service

Ochoco National Forest, Deschutes National Forest; Invasive Plant Treatment Project

AGENCY: Forest Service, USDA.

ACTION: Notice of intent to prepare a supplemental environmental impact statement.

SUMMARY: The USDA Forest Service will prepare a Supplemental Environmental Impact Statement (SETS) to document and disclose the potential environmental effects of proposed invasive plant treatment activities on the Deschutes National Forest, Ochoco National Forest and the Crooked River National Grassland. An FEIS was made available in January 2008. A Record of Decision was signed in January 2008 and subsequently withdrawn. This project evaluates site-specific treatments of invasive plants; including manual, mechanical, cultural, biological and herbicide treatment methods as well as the use of prescribed fire. Forest Plan direction, including amendments identified in the Pacific Northwest Region Invasive Plant Program Environmental Impact Statement, will be incorporated into all alternatives, including the Proposed Action.

DATES: A Draft SEIS is expected to be available in February of 2009, and a Final SEIS in May 2009.

ADDRESSES: Send written comments (i.e., letter or fax) to Beth Peer, Invasive Plant Team Leader, Bend/Ft. Rock Ranger District, 1230 NE. 3rd, Suite A-262, Bend, OR 97701. The FAX number is 541-383-4700. Submit e-mail comments to: comments-pacificnorthwest-deschutes-bend-ftrock@fs.fed.us.

FOR FURTHER INFORMATION CONTACT: Beth Peer, Environmental Coordinator and Invasive Plant Team Leader, Bend/Ft. Rock Ranger District, 1230 NE. 3rd St., Suite A-262, Bend, Oregon 97701, phone (541) 383-4769. E-mail bpeer@fs.fed.us. Maps of proposed treatment sites and other information about the project are available on the Internet at http://www.fs.fed.us/r6/invasiveplant-eis/sitespecific/DES/.

Approximately 52,000 acres of the total 3 million acres of forests and grasslands on the Ochoco National Forest, Deschutes National Forests and Crooked River National Grassland are degraded by infestations of invasive, non-native plants. These infestations have been identified on approximately 1,900 individual locations or sites. These infestations have a high potential to expand and further degrade forests and grasslands. Infested areas represent potential seed sources for further invasion onto neighboring lands.

Invasive plants create a host of adverse environmental effects which are harmful to native ecosystem processes. Examples of these effects include: Displacement of native plants; reduction in functionality of habitat and forage for wildlife and livestock; loss of threatened, endangered, and sensitive species; increased soil erosion and reduced water quality; alteration of physical and biological properties of soil, including reduced soil productivity; changes to the intensity and frequency of wildfires; budget impacts that limit or reduce land management opportunities due to high costs or dollars spent for controlling invasive plants; and loss of recreational opportunities. Without action, invasive plant populations will continue to grow; compromising our ability to manage for healthy functioning ecosystems.

Proposed Action

The USDA Forest Service; Deschutes National Forest, Ochoco National Forest, and Crooked River National Grassland propose to treat areas currently identified with invasive plant infestations and to provide timely treatments for expanded and newly identified invasive plant sites. Treatments, depending upon the species of invasive plants and site characteristics, would include the use of prescribed fire; manual, mechanical, cultural, chemical and biological control methods. The proposed treatments would enhance our ability to protect native ecosystems from invasive, non-native plants. Some of the infested areas are small in size, while others are extensive.

Invasive plant treatments are proposed on approximately 15,000 acres that are known to be infested by invasive plants. The Proposed Action will also analyze treatments for the likely expansion of these existing sites, and for new (unidentified) invasive plant sites in areas most susceptible to new introductions.

Treatment methods are based upon information such as the biology of a particular invasive plant species, invasive plant site location, site type, and size of the infestation. Long-term site goals would be established for infested areas. Site goals are based upon treatment options, monitoring and revegetation potential. Prescriptions are based upon Integrated Pest Management principles. Integrated Pest Management (IPM) is a process by which one selects and applies a combination of management techniques (Example: Prevention then manual or mechanical treatments, followed by biological treatments) that, together, control a particular invasive plant species or infestation efficiently and effectively. IPM seeks to combine two or more management techniques which interact to provide better control than any one of the actions might provide alone. It is typically species-specific, site-specific and designed to be practical; with minimum risk to nontarget species or the surrounding environment, including wildlife species and human health.

The proposal also includes an Early Detection/Rapid Response strategy to timely identify and treat new sites. Actual annual treatment acres associated with future sites would likely vary because of variations in invasive plant spread and occurrence of new invasive plant introductions. Actual annual treatment will likely decline over the life of this plan because of the effectiveness of these treatment actions.

Based upon currently known sites with weed infestations, the Proposed Action includes approximately 25 acres of biological control treatment, approximately 400 acres of herbicide only treatment, approximately 14,000 acres of herbicide plus one or more of the following: Manual, biological, cultural, mechanical, fire.

Scoping

The Forest Service conducted scoping for this project in 2005. The information was used in development of the DEIS. CEQ NEPA regulations exclude scoping from the procedures for supplementing environmental impact statements (40 CFR 1 502.9(c)(4)).

In addition to inviting public comments on the DSEIS, the public may visit Forest Service officials familiar with this project, at any time during the analysis and prior to the decision. To facilitate public participation, additional opportunities may include public meetings and/or field trips. Dates of meetings and field trips are yet to be determined.

Responsible Official

The responsible officials will be John Allen, Forest Supervisor, Deschutes National Forest, 1230 NE. 3rd, Suite A-262, Bend, OR 97701 and Jeff Walter, Forest Supervisor, Ochoco National Forest, 3160 NE. 3rd Street, Prineville, OR 97754.

Comments

The Forest Service believes, at this early stage, it is important to give reviewers notice of several court rulings related to public participation in the environmental review process. First, reviewers of the draft EIS must structure their participation in the environmental review of the proposal so that it is meaningful, and alerts an agency to the reviewer's position and contentions (Vermont Yankee Nuclear Power Corp. v. NRDC. 435 U.S. 519. 553 [1978]). Also, environmental objectives that could be raised at the draft EIS stage but that are not raised until after the completion of the final EIS may be waived or dismissed by the courts (City of Angoon v. Hodel, 803 F. 2d 1016, 1022 [9th Cir. 1986] and Wisconsin Heritage, Inc. v. Harris, 490 F. Supp. 1334 [E.D.Wis. 1980]). Because of these court rulings, it is very important that those interested in this proposed action participate by the close of the 45-day comment period, so that substantive comments and objections are made available to the Forest Service at a time when it can meaningfully consider them and respond to them in the final EIS.

To assist the Forest Service in identifying and considering issues and concerns on the proposed action, comments on the draft EIS should be as specific as possible. It is also helpful if the comments refer to specific pages or chapters of the draft statement. Comments may also address the adequacy of the draft EIS or the merits of alternatives formulated and discussed in the statement. Reviewers may wish to refer to the Council on Environmental Quality Regulations for implementing the procedural provision of the National Environmental Policy Act (40 CFR 1503.3) in addressing these points.

Comments received in response to this solicitation, including names and addresses of those who comment, will be considered part of the public record on this proposed action and will be available for public inspection. Comments submitted anonymously will be accepted and considered; however, those who submit anonymous comments may not have standing to appeal the subsequent decision under 36 CFR Part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Comments on the draft SEIS will be analyzed, considered, and responded to by the Forest Service in preparing the final SEIS. The final SEIS is scheduled to be completed in May 2006. There will be two responsible officials for this multi-Forest SEIS. Duties of the Responsible Official will be shared between John Allen, Forest Supervisor of the Deschutes National Forest, and Jeff Walter, Forest Supervisor of the Ochoco National Forest. They will consider comments, responses, and environmental consequences discussed in the final SEIS, and applicable laws, regulations, and policies in making a decision regarding this proposed action. The responsible officials will document the decision and rationale for the decision in the Record of Decision. It will be subject to Forest Service Appeal Regulations (36 CFR Part 215).

Dated: October 2, 2008.
John Allen,
Deschutes National Forest Supervisor.

Dated: October 14, 2008.
Jeff Walter,
Ochoco National Forest Supervisor.

[FR Doc. E8-24841 Filed 10-20-08; 8:45 am]

BILLING CODE 3410-11-M